DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than January 21, 2003.

Interested persons are invited to submit written comments regarding the subject matter of the investigations to the Director, Division of Trade Adjustment Assistance, at the address shown below, not later than January 21, 2003.

The petitions filed in this case are available for inspection at the Office of the Director, Division of Trade Adjustment Assistance, Employment and Training Administration, U.S. Department of Labor, Room C-5311, 200 Constitution Avenue, NW., Washington, DC 20210.

Signed in Washington, DC this 20th day of December, 2002.
Edward A. Tomchick,
Director, Division of Trade Adjustment Assistance.

Appendix
[Petitions instituted between 12/09/2002 and 12/13/2002]
TA-W | Subject firm (petitioners) | Location | Date of institution | Date of petition
50,271 | Partminer, Inc. (Wkrs) | Englewood, CO | 12/09/2002 | 12/04/2002
50,272 | Hitachi Magnetics Corp. (UAW) | Edmore, MI | 12/09/2002 | 12/03/2002
50,273 | Harvard Industries, Inc. (NJ) | Lebanon, NJ | 12/09/2002 | 11/06/2002
50,274 | Neenah Foundry (GMP) | Neenah, WI | 12/09/2002 | 12/06/2002
50,275 | Chinook Sailing Products (Comp) | Casscade Locks, OR | 12/09/2002 | 12/25/2002
50,276 | SuperValu, Inc. (Wkrs) | Belle Vernon, OA | 12/09/2002 | 11/18/2002
50,277 | Heico-Ohmite, LLC (Comp) | Skokie, IL | 12/09/2002 | 12/03/2002
50,278 | Dennis Windings (Wkrs) | Wilkes-Barre, PA | 12/09/2002 | 12/03/2002
50,279 | Pfaltzgraff Co. (The) (Comp) | Thomasville, PA | 12/09/2002 | 11/06/2002
50,280 | Holmes Group (The) (Wkrs) | Clinton, MO | 12/09/2002 | 12/09/2002
50,281 | U.S. Manufacturing (Wkrs) | Bad Axe, MI | 12/09/2002 | 12/03/2002
50,282 | Cusolar Industries, Inc. (MI) | Chesterfield, MI | 12/09/2002 | 12/09/2002
50,283 | Advanced Micro Devices (Wkrs) | Austin, TX | 12/10/2002 | 11/23/2002
50,284 | Newell Rubbermaid (USWA) | Ogdensburg, NY | 12/10/2002 | 11/27/2002
50,285 | Fiber-Line, Inc. (Comp) | Hickory, NC | 12/10/2002 | 11/22/2002
50,286 | Indiana Glass Company (Comp) | Dunkirk, IN | 12/10/2002 | 12/06/2002
50,287 | Corning Cables Systems (Wkrs) | Hickory, NC | 12/10/2002 | 11/05/2002
50,288 | Lancaster Malleable Castings Company (Comp) | Lancaster, PA | 12/10/2002 | 12/02/2002
50,289 | Metolius Mountain Products, Inc. (Comp) | Bend, OR | 12/10/2002 | 11/22/2002
50,290 | Sipex Corporation (Wkrs) | Billerica, MA | 12/10/2002 | 11/06/2002
50,291 | Intelicoat (Comp) | Spartanburg, SC | 12/10/2002 | 12/04/2002
50,292 | Gorham/Lenox (Comp) | Smithfield, RI | 12/10/2002 | 12/09/2002
50,293 | Mitsubishi Electric Automation (Comp) | Vernon Hills, IL | 12/10/2002 | 12/09/2002
50,294 | Gates Rubber Company (Comp) | Denver, CO | 12/10/2002 | 12/04/2002
50,295 | Vaughan Furniture Company (Comp) | Galax, VA | 12/10/2002 | 12/06/2002
50,296 | TRW Valve Division (SVAA) | Danville, PA | 12/10/2002 | 12/09/2002
50,297 | Progressive Die and Automation (Wkrs) | Grand Rapids, MI | 12/12/2002 | 11/14/2002
50,298 | SPX Valves/Controls (Comp) | Sartell, MN | 12/12/2002 | 11/15/2002
50,299 | CSI Employment Services (IA) | Mt. Pleasant, IA | 12/12/2002 | 12/10/2002
50,300 | Nexfor Fraser Levesque Operations (Comp) | Ashland, ME | 12/12/2002 | 12/10/2002
50,301 | DeLong Sportswear, Inc. (Comp) | Quanah, TX | 12/12/2002 | 12/11/2002
50,302 | Union Tank Car (IBB) | E. Chicago, IN | 12/12/2002 | 12/01/2002
50,303 | Profuse Services, Inc. (Comp) | Merkel, TX | 12/12/2002 | 12/05/2002
50,304 | Defiance Metal Products of PA (Comp) | Bedford, PA | 12/12/2002 | 11/27/2002
50,305 | Burgess Norton Manufacturing Company (Comp) | DeKalb, IL | 12/12/2002 | 12/11/2002
50,306 | Nevamar Company (Wkrs) | Stuart, VA | 12/12/2002 | 12/04/2002
50,307 | Xerox Corporation (Wkrs) | Yukon, OK | 12/12/2002 | 12/03/2002
50,308 | Helicopter Aviation Services Corporation (Wkrs) | Mt. Pleasant, PA | 12/12/2002 | 11/05/2002
50,309 | Parkdale Mills, Inc. (Comp) | Belmont, NC | 12/12/2002 | 12/10/2002
50,310 | Mossberg Reel, LLC (Comp) | Cumberland, RI | 12/12/2002 | 12/06/2002
50,311 | Relizon (Comp) | Newark, OH | 12/12/2002 | 12/02/2002
50,312 | Intertape Polymer Group (Comp) | Menasha, WI | 12/12/2002 | 12/09/2002
50,313 | Mike Dent Enterprises (Comp) | Burns, OR | 12/12/2002 | 11/13/2002
50,314 | Electroglas, Inc. (Wkrs) | San Jose, CA | 12/12/2002 | 12/09/2002
50,315 | Capital City Press (GCIU) | Berlin, VT | 12/12/2002 | 12/10/2002
50,316 | Gem Case, LLC (Comp) | Cranston, RI | 12/12/2002 | 11/22/2002
50,317 | FMC (USWA) | S. Charleston, WV | 12/12/2002 | 12/05/2002
50,318 | Fairfield Manufacturing Co., Inc. (UAW) | Lafayette, IN | 12/12/2002 | 12/11/2002
50,319 | ACS (Wkrs) | Liberty, KY | 12/12/2002 | 12/10/2002
50,320 | American Bag Corp. (Comp) | Stearns, KY | 12/12/2002 | 11/25/2002
50,321 | Baxter Health Care Corp. (AR) | Mountain Home, AR | 12/12/2002 | 12/12/2002
50,322 | Temp Associates (IA) | Mount Pleasant, IA | 12/12/2002 | 12/10/2002
50,323 | Potlatch Corporation (ID) | Lewiston, ID | 12/12/2002 | 12/10/2002
50,324 | Smiths Aerospace (Wkrs) | Malvern, PA | 12/12/2002 | 12/09/2002
50,325 | Successful Futures (IA) | Mt. Pleasant, IA | 12/12/2002 | 12/10/2002
50,326 | Jordan Fashions Corp. (UNITE) | New York, NY | 12/12/2002 | 12/12/2002
50,327 | Jo La Foundation (UNITE) | Brooklyn, NY | 12/12/2002 | 12/09/2002
50,328 | Crane Manufacturing and Service Corp. (Comp) | Cudahy, WI | 12/12/2002 | 12/05/2002
50,329 | U.S. Forgecraft Corp. (AR) | Fort Smith, AR | 12/12/2002 | 12/12/2002
50,330 | Bardon Rubber Company (UAW) | Union Grove, WI | 12/12/2002 | 12/11/2002
50,331 | Suntec Industries (UAW) | Rockford, IL | 12/12/2002 | 12/11/2002
50,332 | Tetley USA, Inc. (Comp) | Williamsport, PA | 12/12/2002 | 12/10/2002
50,333 | Rockford Company (The) (Comp) | Rockford, IL | 12/13/2002 | 11/04/2002
50,334 | Sumco Phoenix Corporation (Comp) | Fremont, CA | 12/13/2002 | 11/26/2002
50,335 | Windless, Inc. (Wkrs) | Altoona, PA | 12/13/2002 | 12/02/2002
50,336 | Rhodes Collections, Inc. (Comp) | Garland, TX | 12/13/2002 | 12/06/2002
50,337 | MacLean ESNA (AR) | Pocahontas, AR | 12/13/2002 | 12/12/2002
50,338 | Dana Corporation/Long Manufacturing (Comp) | Sheffield, PA | 12/13/2002 | 12/10/2002
50,339 | Tower Automotive, Inc. (DALU) | Milwaukee, WI | 12/13/2002 | 12/09/2002
50,340 | Lear (PACE) | Peru, IN | 12/13/2002 | 12/09/2002
50,341 | Cooper Standard (AR) | El Dorado, AR | 12/13/2002 | 12/12/2002
50,342 | Pechiney Plastic Packaging (Wkrs) | Neenah, WI | 12/13/2002 | 12/12/2002
50,343 | Fashion Technologies, Inc. (Comp) | Gaffney, SC | 12/13/2002 | 12/10/2002
50,344 | Rough and Ready Lumber Co. (Comp) | Cave Junction, OR | 12/13/2002 | 12/12/2002
50,345 | Gateway Forest Products (AK) | Ward Cove, AK | 12/13/2002 | 12/12/2002
50,346 | Square D Company (Wkrs) | Columbia, MO | 12/13/2002 | 12/10/2002
50,347 | Rayovac Corporation (Comp) | Madison, WI | 12/13/2002 | 12/09/2002
50,348 | Egger Steel Company (Wkrs) | Sioux Falls, SD | 12/13/2002 | 12/05/2002

[FR Doc. 03-423 Filed 1-8-03; 8:45 am]

BILLING CODE 4510-30-M